DEPARTMENT OF AGRICULTURE

Forest Service

Notice of New Fee Sites; Federal Lands Recreation Enhancement Act, (Title VIII, Pub. L. 108-447)

AGENCY: Northern Region, USDA Forest Service.

ACTION: Notice of New Fee Sites.

SUMMARY: Pending public comments and feedback received through the BLM Resource Advisory Council (BLM RAC) review and recommendation process, the following National Forests in the Northern Region propose to begin charging new fees at the following recreation sites: The Clearwater National Forest will begin charging new fees for two overnight group camping sites at Aquarius Campground ($15/night). The Idaho Panhandle National Forest will begin charging new fees for overnight camping at Conrad Crossing Campground ($8/night) with an extra vehicle fee of $2/night; Fly Flat Campground ($8/night) with an extra vehicle fee of $2/night; Spruce Tree Campground ($8/night) with an extra vehicle fee of $2/night; Line Creek Stock Camp Campground ($8/night) with an extra vehicle fee of $2/night; and Big Creek Campground ($8/night) with an extra vehicle fee of $2/night. The Lewis and Clark National Forest will begin charging new fees for overnight camping at Indian Hill Campground ($5/night); Hay Canyon Campground ($5/night); and VandeReit Memorial Pilots Campground ($10/night). The Lolo National Forest will begin charging new fees for overnight camping at Fishtrap Campground ($10/night).

Rentals of other cabins and lookouts throughout the Northern Region have shown that the public appreciates and enjoys the availability of historic rental cabins and lookouts as well as campgrounds and group camping sites. Funds from the campgrounds will be used for the continued operation and maintenance of recreation sites.

DATES: Pending additional public comment and BLM Resource Advisory Committee review and recommendation regarding charging new fees at these proposed sites, the campgrounds could become available as early as August 12, 2009. Additionally, fee pricing may be adjusted per the proposed Region One Regional Recreation Fee schedule, per public and BLM RAC comments on the framework and fee pricing schedule, which will also go through Federal Register notice, regional and local public comment, and BLM RAC review and recommendation.

ADDRESSES: Comments regarding these new proposed fee sites may be sent directly to the respective Forest: Forest Supervisor, Clearwater National Forest, 12730 Highway 12, Orofino, ID 83544; Forest Supervisor, Idaho Panhandle National Forest, 3815 Schreiber Way, Coeur d'Alene, ID 83815; Forest Supervisor, Lewis and Clark National Forest, 1101 15th Street North, Great Falls, MT 59403; Forest Supervisor, Lolo National Forest, Building 24—Fort Missoula, Missoula, MT 59804.

FOR FURTHER INFORMATION CONTACT: Joni Packard, Northern Region Recreation Fee Program Coordinator, 406-329-3586.

SUPPLEMENTARY INFORMATION: The Federal Recreation Lands Enhancement Act (Title VII, Pub. L. 108-447) directed the Secretary of Agriculture to publish a six month advance notice in the Federal Register whenever new recreation fee areas are established. The intent of this notice is to give the public an opportunity to comment if they have concerns or questions about new fees. The Northern Region currently offers over 150 other cabin rentals, including guard stations and fire lookouts, 208 fee campgrounds and 268 non-fee (free) campgrounds. Many sites are often fully booked throughout their rental season. Local public comments have shown that people desire having these sorts of recreation experiences on these National Forests and Grasslands. The fees proposed are based on amenities offered and local comparable markets and are both reasonable and acceptable for these sorts of unique recreation experience.

People wanting to rent these campground sites may do so on a first-come, first-served basis, and for locations with a portion of reservable sites, through the National Recreation Reservation Service (NRRS), at www.recreation.gov or by calling 1-877-444-6777. The National Recreation Reservation Service charges a $9 fee for reservations made on-line and a $10 fee for reservations made by phone.

Dated: January 23, 2009.
Thomas Tidwell,
Regional Forester, Northern Region.

[FR Doc. E9-3127 Filed 2-13-09; 8:45 am]

BILLING CODE 3410-11-M